DEPARTMENT OF COMMERCE

National Institute of Standards and Technology

International Code Council: The Update Process for the International Codes and Standards

AGENCY: National Institute of Standards and Technology, Commerce.

ACTION: Notice.

SUMMARY: The International Code Council (ICC), promulgator of the International Codes and Standards, maintains a process for updating the entire family of International Codes based on receipt of proposals from interested individuals and organizations involved in the construction industry as well as the general public. The codes are updated every three years (2000—current edition, 2003, 2006 editions, etc.) with an intervening Supplement published every 18 months. There are two hearings for each code development cycle: In the first, a committee considers proposals and recommends an action on each; in the second, the committee considers comments submitted in response to the committee actions. The schedule is printed below.

The purpose of this request is to increase public participation in the system used by ICC to develop and maintain its codes and standards. The publication of this notice by the National Institute of Standards and Technology (NIST) on behalf of ICC is undertaken as a public service; NIST does not necessarily endorse, approve, or recommend any of the codes or standards referenced in the notice.

DATES: Interested persons may submit proposals to the ICC at the address shown below and may participate in the public debate concerning these matters. The hearing dates are as follows:

Cycle year | Submittal deadline | Public hearings
2002 | November 15, 2001 | First Hearing, April 8-19, 2002, Radisson Hotel Green Tree, Pittsburgh, PA 800-333-3333.
|  | Second Hearing, September 29-October 4, 2002, Fort Worth Convention Center, Fort Worth, TX.
Completion of this cycle results in the 2003 edition.
2003 | February 15, 2003 | First Hearing, September 5-14, 2003, Opryland Hotel, Nashville, TN.
|  | Second Hearing, May, 2004, Date/Location TBD.
Completion of this cycle results in the 2004 Supplement.
2004 | August 15, 2004 (tentative) | First Hearing, February 21-March 2, 2005, Cincinnati Convention Center, Cincinnati, OH.
|  | Second Hearing, September, 2005, Date/Location TBD.

Completion of this cycle results in the 2006 edition. The 3-year cycle continues as noted above.

Updates to the schedule are posted on the ICC website at: www.intlcode.org.

FOR FURTHER INFORMATION CONTACT: Mike Pfeiffer, PE, Secretary, Code Development, 4051 West Flossmoor Road, Country Club Hills, IL 60478 Telephone 708/799-2300 Extension 338.

SUPPLEMENTARY INFORMATION:

Background

ICC produces the only family of Codes and Standards that are comprehensive, coordinated and necessary to regulate the built environment. Federal agencies frequently use these codes and standards as the basis for developing Federal regulations concerning new and existing construction. The Code Development Process is initiated when proposals from interested persons, supported by written data, views, or arguments are solicited and published in the Proposed Changes document. This document is distributed a minimum of 30 days in advance of the first hearing and serves as the agenda. At the first hearing, the ICC Code Development Committee considers testimony on every proposal and acts on them individually (Approval, Disapproval, or Approval as Modified). The results are published in a report entitled the Report of the Public Hearing, which identifies the disposition of each proposal and the reason for the committee's action. Anyone wishing to submit a comment on the committee's action, expressing support or opposition to the action, is provided the opportunity to do so. Comments received are published and distributed in a document called the Final Action Agenda, which serves as the agenda for the second hearing. Proposals that are approved at the second hearing are incorporated in either the Supplement or Edition, as applicable, with the next cycle starting with the submittal deadline for proposals. Proponents of proposals automatically receive a copy of all documents (Proposed Changes, Report of the Public Hearing and Final Action Agenda).

Interested parties also may request a copy, free of charge, from ICC headquarters at:

International Code Council, 5203 Leesburg Pike, Suite 600, Falls Church, VA 22041-3401 or download a copy from the ICC web site at www.intlcode.org.

The International Codes and Standards consist of the following:

International Building Code

ICC Electrical Code

International Energy Conservation Code

International Existing Building Code

International Fire Code

International Fuel Gas Code

International Mechanical Code

ICC Performance Code for Buildings and Facilities

International Plumbing Code

International Private Sewage Disposal Code

International Property Maintenance Code

International Residential Code

International Urban-Wildland Interface Code

International Zoning Code

ICC/ANSI A 117.1 Accessible and Usable Buildings and Facilities

ICC Standard on Bleachers, Folding and Telescopic Seating and Grandstands

The maintenance process for ICC Standards such as ICC/ANSI A 117.1 and the ICC Standard on Bleachers, Folding and Telescopic Seating and Grandstands follows a similar process of soliciting proposals, committee action, public comment and ultimately the update and publication of the standard.

Dated: February 14, 2002.
Karen Brown,
Deputy Director.

[FR Doc. 02-4074 Filed 2-19-02; 8:45 am]

BILLING CODE 3510-CN-P